ENVIRONMENTAL PROTECTION AGENCY

[FRL-9504-3]

Cross-Media Electronic Reporting: Authorized Program Revision Approval, State of Montana

AGENCY: Environmental Protection Agency (EPA).

ACTION: Notice.

SUMMARY: This notice announces EPA's approval of the State of Montana's request to revise its EPA-authorized program to allow electronic reporting.

DATES: EPA's approval is effective December 9, 2011.

FOR FURTHER INFORMATION CONTACT: Evi Huffer, U.S. Environmental Protection Agency, Office of Environmental Information, Mail Stop 2823T, 1200 Pennsylvania Avenue NW., Washington, DC 20460, (202) 566-1697, huffer.evi@epa.gov, U.S. Environmental Protection Agency, Office of Environmental Information, Mail Stop 2823T, 1200 Pennsylvania Avenue NW., Washington, DC 20460, or Karen Seeh, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Rule (CROMERR) was published in the Federal Register (70 FR 59848) and codified as Part 3 of title 40 of the CFR. CROMERR establishes electronic reporting as an acceptable regulatory alternative to paper reporting and establishes requirements to assure that electronic documents are as legally dependable as their paper counterparts. Under Subpart D of CROMERR, state, tribe or local government agencies that receive, or wish to begin receiving, electronic reports under their EPA-authorized programs must apply to EPA for a revision or modification of those programs and obtain EPA approval. Subpart D also provides standards for such approvals based on consideration of the electronic document receiving systems that the state, tribe, or local government will use to implement the electronic reporting. Additionally, in § 3.1000(b) through (e) of 40 CFR part 3, subpart D provides special procedures for program revisions and modifications to allow electronic reporting, to be used at the option of the state, tribe or local government in place of procedures available under existing program-specific authorization regulations. An application submitted under the Subpart D procedures must show that the state, tribe or local government has sufficient legal authority to implement the electronic reporting components of the programs covered by the application and will use electronic document receiving systems that meet the applicable Subpart D requirements.

On July 8, 2011, the Montana Department of the Environmental Quality (MT DEQ) submitted an application for its Network Discharge Monitoring Report (NetDMR) electronic document receiving system for revision of its EPA-authorized program under title 40 CFR. EPA reviewed MT DEQ's request to revise its EPA-authorized program and, based on this review, EPA determined that the application met the standards for approval of authorized program revisions set out in 40 CFR part 3, subpart D. In accordance with 40 CFR 3.1000(d), this notice of EPA's decision to approve Montana's request for revision to its 40 CFR part 123- National Pollutant Discharge Elimination System (NPDES) State Program Requirements EPA-authorized program for electronic reporting of information submitted under 40 CFR part 122 is being published in the Federal Register.

MT DEQ was notified of EPA's determination to approve its application with respect to the authorized program listed above.

Dated: December 1, 2011.
Andrew Battin,
Director, Office of Information Collection.

[FR Doc. 2011-31656 Filed 12-8-11; 8:45 am]

BILLING CODE 6560-50-P